DEPARTMENT OF JUSTICE

Antitrust Division

Notice Pursuant to the National Cooperative Research and Production Act of 1993—Defense Electronics Consortium

Notice is hereby given that, on April 12, 2023, pursuant to Section 6(a) of the National Cooperative Research and Production Act of 1993, 15 U.S.C. 4301 et seq. (“the Act”), Defense Electronics Consortium (“DEC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Aerocyonics, Inc., East Greenwich, RI; Auburn University, Auburn, AL; Averatek Corp., Santa Clara, CA; Calumet Electronics Corp., Calumet, MI; CPS Technologies Corp., Norton, MA; Idaho Scientific, Boise, ID; Integra Technologies LLC, Wichita, KS; ISOLA USA Corp., Chandler, AZ; Mattrix Technologies, Gainesville, FL; Purdue University, West Lafayette, IN; Rogers Corp., Chandler, AZ; ScanCAD International, Inc., Conifer, CO; STI Electronics, Inc., Madison, AL; Streamline Circuits dba Summit Interconnect, Santa Clara, CA; and TTM Technologies, Stafford Springs, CO. The general area of DEC's planned activity is to bolster the security and resiliency of the defense electronics supply chain. The mission of the DEC is to strengthen the economic and force posture of the U.S. defense electronics industrial base and provide the DoD with deeper insights and connections to the U.S. electronics industry while providing industry with greater access to DoD opportunities.

Suzanne Morris,
Deputy Director Civil Enforcement Operations, Antitrust Division.

[FR Doc. 2023-16911 Filed 8-7-23; 8:45 am]

BILLING CODE P